DEPARTMENT OF THE INTERIOR

Bureau of Indian Affairs

Submission of Information Collection to the Office of Management and Budget for Review Under the Paperwork Reduction Act

AGENCY: Bureau of Indian Affairs, Interior.

ACTION: Notice.

SUMMARY: In compliance with the Paperwork Reduction Act of 1995, this notice announces that the Bureau of Indian Affairs is submitting an information collection request to the Office of Management and Budget's (OMB) Office of Information and Regulatory Affairs for clearance and extension. The information collection, Tribal Reassumption of Jurisdiction over Child Custody Proceedings, is cleared under OMB Control Number 1076-0112 through May 31, 2006.

DATES: Submit comments on or before June 30, 2006.

ADDRESSES: Written comments may be sent to the Desk Officer for the Department of the Interior, Office of Management and Budget, Office of Regulatory Affairs via facsimile to 202-395-6566, or by e-mail to OIRA_DOCKET@omb.eop.gov.

Send a copy of your comments to Chester Eagleman, Bureau of Indian Affairs, Division of Human Services, 1951 Constitution Avenue, NW., Mail Stop 320-SIB, Washington, DC 20240.

FOR FURTHER INFORMATION CONTACT: Interested persons may obtain copies of the information collection requests without charge by contacting Mr. Chester Eagleman, (202) 513-7622, Facsimile number (202) 208-2648.

SUPPLEMENTARY INFORMATION:

I. Abstract

The Department has issued regulations prescribing procedures by which an Indian tribe may reassume jurisdiction over Indian child proceedings when a state asserts any jurisdiction. Tribes have the right to pursue this alternative because this action is authorized by the Indian Child Welfare Act, Public Law 95-608, 92 Stat. 3069, 25 U.S.C. 1918. A 60-day notice for public comments was published in the Federal Register on December 30, 2005 (70 FR 77423). No comments were received regarding this collection.

II. Request for Comments

The Department invites comments on:

(1) Whether the collection of information is necessary for the proper performance of the functions of the Bureau, including whether the information will have practical utility;

(2) The accuracy of the Bureau's estimate of the burden of the information collection, including the validity of the methodology and assumptions used;

(3) Ways to enhance the quality, utility, and clarity of the information to be collected; and, (4) Ways to minimize the burden of the information collection on those who are to respond, including through the use of appropriate automated electronic, mechanical, or other collection techniques or forms of information technology.

Please submit your comments to the persons listed in the ADDRESSES section. Please note that comments, names and addresses of commentators, will be available for public review during regular business hours. If you wish your name and address withheld from the public, you must state this prominently at the beginning of your comments. We will honor your request to the extent allowable by law.

OMB is required to make a decision concerning this information collection request between 30 and 60 days after publication of this document in the Federal Register. Therefore, a comment will receive the best consideration by OMB if it is submitted early during this comment period.

III. Data

OMB Control Number: 1076-0112.

Type of Review: Renewal.

Title of the Information Collection: Tribal Reassumption of Jurisdiction Over Child Custody Proceedings, 25 CFR 13.11.

Summary of Collection of Information: The collection of information will ensure that the provisions of Public Law 95-608 are met.

Affected Entities: Federally-recognized tribes who submit tribal reassumption petitions for review and approval by the Secretary of the Interior.

Frequency of Response: Annually.

Estimated Number of Annual Responses: 2.

Estimated Time Per Application: 8 hours.

Estimated Total Annual Burden Hours: 16 hours.

BIA Information Collection Clearance Officer: Ruth Bajema, 703-735-4414.

Dated: April 14, 2006.
Debbie L. Clark,
Acting Principal Deputy Assistant Secretary—Indian Affairs.

[FR Doc. E6-8359 Filed 5-30-06; 8:45 am]

BILLING CODE 4310-4J-P